NATIONAL ARCHIVES AND RECORDS ADMINISTRATION

Advisory Committee on the Records of Congress; Meeting

AGENCY: National Archives and Records Administration.

ACTION: Notice of meeting.

SUMMARY: In accordance with the Federal Advisory Committee Act, the National Archives and Records Administration (NARA) announces a meeting of the Advisory Committee on the Records of Congress. The committee advises NARA on the full range of programs, policies, and plans for the Center for Legislative Archives in the Office of Records Services.

DATES: November 30, 2005 from 10 a.m. to 11 a.m.

ADDRESSES: National Archives and Records Administration Building, Archivist's Board Room (Room 119), Washington, DC.

FOR FURTHER INFORMATION CONTACT: Richard H. Hunt, Director; Center for Legislative Archives; (202) 501-5350.

SUPPLEMENTARY INFORMATION:

Agenda

Advisory Committee on the Records of Congress Fourth Report Symposium on Presidential and Public Papers at the John Brademas Center for the Study of Congress

Activities Report of the Center for Legislative Archives

Other current issues and new business

The meeting is open to the public.

This notice is published less than 15 calendar days before the meeting because of scheduling difficulties.

Dated: November 18, 2005.
Mary Ann Hadyka,
Committee Management Officer.

[FR Doc. 05-23205 Filed 11-21-05; 8:45 am]

BILLING CODE 7515-01-P